Title 3—

The President

Proclamation 7897 of May 5, 2005

Mother's Day, 2005

By the President of the United States of America

A Proclamation

On Mother's Day, we pay tribute to the extraordinary women whose guidance and unconditional love shape our lives and our future. Motherhood often allows little time for rest. As President Theodore Roosevelt said of the American mother in 1905, “Upon her time and strength, demands are made not only every hour of the day but often every hour of the night.” President Roosevelt's words ring as true today as they did 100 years ago.

The hard, perpetual work of motherhood shows us that a single soul can make a difference in a young person's future. As sources of hope, stability, and love, mothers teach young people to honor the values that sustain a free society. By raising children to be responsible citizens, mothers serve a cause larger than themselves and strengthen communities across our great Nation.

Mothers are tireless advocates for children. In our schools, mothers help to ensure that every child reaches his or her full potential. In our communities, they set an example by reaching out to those who are lost and offering love to those who hurt. A mother's caring presence helps children to resist peer pressure, focus on making the right choices, and realize their promise and potential.

In an hour of testing, one person can show the compassion and character of a whole country. In supporting their sons and daughters as they grow and learn, mothers bring care and hope into others' lives and make our Nation a more just, compassionate, and loving place.

The Congress, by a joint resolution approved May 8, 1914, as amended (38 Stat. 770), has designated the second Sunday in May each year as “Mother's Day” and has requested the President to call for its appropriate observance. It is my honor to do so. May God bless mothers across our great land on this special day.

NOW, THEREFORE, I, GEORGE W. BUSH, President of the United States of America, do hereby proclaim May 8, 2005, as Mother's Day. I encourage all Americans to express their love, appreciation, and admiration to mothers for making a difference in the lives of their children, families, and communities. I also call upon citizens to observe this day with appropriate programs, ceremonies, and activities.

IN WITNESS WHEREOF, I have hereunto set my hand this fifth day of May, in the year of our Lord two thousand five, and of the Independence of the United States of America the two hundred and twenty-ninth.

B

[FR Doc. 05-9340

Filed 5-6-05; 8:45 am]

Billing code 3195-01-P